DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Pub. L. 92-463), the Centers for Disease Control and Prevention (CDC) announces the following Federal advisory committee meetings.

Name: National Vaccine Advisory Committee (NVAC).

Times and Dates: 9 a.m.-5 p.m., February 4, 2003; 8:30 a.m.-3 p.m., February 5, 2003.

Place: Hubert H. Humphrey Building, Room 705A, 200 Independence Avenue, SW., Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters to be Discussed: Agenda items will include: a report from the National Vaccine Program Office (NVPO) and the Interagency Vaccine Workgroup; a report from the Assistant Secretary for Health; a discussion of homeland security and the role of vaccines; an update on the status of the smallpox vaccination program; an update on vaccine supply; an update on compensation for vaccine administration: Centers for Medicare and Medicaid Services Ruling; a report from the NVAC Workgroup on Public Health Options for Implementing Immunization Requirements; a report from the Institute of Medicine (IOM) regarding SV-40; a discussion of the Department of Health and Human Services global health agenda; an update on polio eradication and polio laboratory containment; a discussion of the Homeland Security Act; reports from the Vaccine Safety and Communication Subcommittee, Immunization Coverage Subcommittee, and the Future Vaccines Subcommittee; and, reports from the Advisory Commission on Childhood Vaccines/Division of Vaccine Injury Compensation, Vaccine Related Biological Products Advisory Committee/Food and Drug Administration, Advisory Committee on Immunization Practices/National Immunization Program/National Center for Infectious Diseases.

Name: Subcommittee on Future Vaccines.

Time and Date: 3:15 p.m.-5 p.m., February 4, 2003.

Place: Hubert H. Humphrey Building, Room 405A, 200 Independence Avenue, SW., Washington, DC 20201.

Status: Open to the public, limited only by the space available.

Purpose: This subcommittee develops policy options and guides national activities that lead to accelerated development, licensure, and the best use of new vaccines in the simplest possible immunization schedules.

Matters to be Discussed: Agenda items include an update on planning for a workshop on Pneumococcal Disease Prevention in Adults; discussion of pertussis vaccine strategies; and, a discussion of future vaccine technologies.

Name: Subcommittee on Immunization Coverage.

Time and Date: 3:15 p.m.-5 p.m., February 4, 2003.

Place: Hubert H. Humphrey Building, Room 705A, 200 Independence Avenue, SW., Washington, DC 20201.

Status: Open to the public, limited only by the space available.

Purpose: This subcommittee will identify and propose solutions that provide a multifaceted and holistic approach to reducing barriers that result in low immunization coverage for children.

Matters to be Discussed: Agenda items will include an update on Publication of Adult and Pediatric Standards; presentation of the draft report from the Workgroup on Public Health Options for Implementing Immunization Recommendations; an update on the status of the IOM report on vaccine financing; a discussion of creative methods for funding immunization registries; a review of adolescent coverage rates; and, areas of focus for unmet needs funding.

Name: Subcommittee on Vaccine Safety and Communication.

Time and Date: 3:15 p.m.-5 p.m., February 4, 2003.

Place: Hubert H. Humphrey Building, Room 425A, 200 Independence Avenue, SW., Washington, DC 20201.

Status: Open to the public, limited only by the space available.

Purpose: This subcommittee reviews issues relevant to vaccine safety and adverse reactions to vaccines.

Matters to be Discussed: Items to be discussed include a report from the IOM Vaccine Safety Review Committee on future activities and risk communication recommendations; a follow-up of the NVPO Risk Communication Workshop; and, a discussion of the smallpox vaccine communication plan.

Agenda items are subject to change as priorities dictate.

Contact Person for More Information: Gloria Sagar, Committee Management Specialist, NVPO, CDC, 4700 Buford Highway M/S K-77, Chamblee, Georgia 30341, telephone 770/488-2040.

The Director, Management Analysis and Services Office, has been delegated the authority to sign Federal Register notices pertaining to announcements of meetings and other committee management activities for both the Centers for Disease Control and Prevention and the Agency for Toxic Substances and Disease Registry.

Dated: December 20, 2002.
Alvin Hall,
Director, Management Analysis and Services Office, Centers for Disease Control and Prevention (CDC).

[FR Doc. 02-32864 Filed 12-27-02; 8:45 am]

BILLING CODE 4163-18-P